DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than February 5, 2007.

ADDRESSES: Submit written comments on any or all of the following proposed activities by mail to either: Mr. Robert Brogan, Office of Safety, Planning and Evaluation Division, RRS-21, Federal Railroad Administration, 1120 Vermont Ave., NW., Mail Stop 17, Washington, DC 20590, or Ms. Gina Christodoulou, Office of Support Systems, RAD-43, Federal Railroad Administration, 1120 Vermont Ave., NW., Mail Stop 35, Washington, DC 20590. Commenters requesting FRA to acknowledge receipt of their respective comments must include a self-addressed stamped postcard stating, “Comments on OMB control number 2130-0526.” Alternatively, comments may be transmitted via facsimile to (202) 493-6230 or (202) 493-6170, or via e-mail to Mr. Brogan at robert.brogan@dot.gov, or to Ms. Christodoulou at gina.christodoulou@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Ms. Gina Christodoulou, Office of Support Systems, RAD-43, Federal Railroad Administration, 1120 Vermont Ave., NW., Mail Stop 35, Washington, DC 20590 (telephone: (202) 493-6139). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection activities that FRA will submit for clearance by OMB as required under the PRA:

Title: Control of Alcohol and Drug Use in Railroad Operations.

OMB Control Number: 2130-0526.

Abstract: The information collection requirements contained in pre-employment and “for cause” testing regulations are intended to ensure a sense of fairness and accuracy for railroads and their employees. The principal information—evidence of unauthorized alcohol or drug use—is used to prevent accidents by screening personnel who perform safety-sensitive service. FRA uses the information to measure the level of compliance with regulations governing the use of alcohol or controlled substances. Elimination of this problem is necessary to prevent accidents, injuries, and fatalities of the nature already experienced and further reduce the risk of a truly catastrophic accident. Finally, FRA analyzes the data provided in the Management Information System annual report to monitor the effectiveness of a railroad's alcohol and drug testing program.

Form Number(s): FRA F 6180.73, 6180.74, 6180.94A, 61880.94B.

Affected Public: Businesses.

Reporting Burden:

CFR section | Respondent universe | Total annual responses | Average time per response | Total annual burden hours | Total annual burden cost ($)
219.7—Waivers | 100,000 employees | 2 letters | 2 hours | 4 | $140
219.9(b)(2)—Responsibility for compliance | 450 railroads | 2 requests | 1 hour | 2 | 70
219.9(c)(2)—Responsibility for compliance | 450 railroads | 10 contracts/docs | 2 hours | 20 | 700
219.11(b)(2)—Gen'l conditions for chemical tests | 450 Medical Fac | 1 document | 15 minutes | .25 | 4
219.11(g) & 219.301(c)(2)(ii)—Training—Alcohol and Drug | 5 railroads | 5 programs | 3 hours | 15 | 525
—Training | 50 railroads | 50 training classes | 3 hours | 150 | 5,250
219.23(d)—Notice to Employee Organizations | 5 railroads | 5 notices | 1 hour | 5 | 175
219.104/219.107—Removal from Covered Svc. | 450 railroads | 20 letters | 1 hour | 20 | 700
219.201(c) Good Faith Determination | 450 railroads | 10 reports | 30 minutes | 5 | 175
219.203/207/209—Notifications by Phone to FRA | 450 railroads | 104 phone calls | 10 minutes | 17 | 595
219.205—Sample Collection and Handling | 450 railroads | 400 forms | 15 minutes | 100 | 3,500
—Form covering accidents/incidents | 450 railroads | 100 forms | 10 minutes | 17 | 595
219.209(a)—Reports of Tests and Refusals | 450 railroads | 80 phone rpts | 2 minutes | 3 | 105
219.209(c)—Records—Tests promptly administered | 450 railroads | 40 records | 30 minutes | 20 | 700
219.211(b)—Analysis and follow-up—MRO | 450 railroads | 8 reports | 15 minutes | 2 | 200
219.302(f)—Tests not promptly administered | 450 railroads | 200 records | 30 minutes | 100 | 3,500
219.401/403/405—Voluntary referral and Co-worker report policies | 5 railroads | 5 report policies | 20 hours | 100 | 3,500
219.405(c)(1)—Report by Co-worker | 450 railroads | 450 reports | 5 minutes | 38 | 1,330
219.403/405—SAP Counselor Evaluation | 450 railroads | 700 reports | 30 minutes | 350 | 12,250
219.601(a)—RR Random Drug Testing Programs | 5 railroads | 5 programs | 1 hour | 5 | 175
—Amendments | 450 railroads | 20 amendments | 1 hour | 20 | 700
219.601(b)(1)—Random Selection Proc.—Drug | 450 railroads | 5,400 documents | 4 hours | 21,600 | 324,000
219.601(b)(4/; 219.601(d)—Notices to Employees | 5 railroads | 100 notices | .5 minute | 1 | 35
—New Railroads | 5 railroads | 5 notices | 10 hours | 50 | 1,750
—Employee Notices—Tests | 450 railroads | 25,000 notices | 1 minute | 417 | 14,595
219.603(a)—Specimen Security—Notice By Employee Asking to be Excused from Urine Testing | 20,000 employees | 20 excuse doc | 15 minutes | 5 | 145
219.607(a)—RR Random Alcohol Testing Programs | 5 railroads | 5 programs | 8 hours | 40 | 1,400
—Amendments to Approved Program | 450 railroads | 20 amendments | 1 hour | 20 | 700
219.608—Administrator's Determination of Random Alcohol Testing Rate | 53 railroads | 53 MIS reports | 2 hours | 106 | 3,710
219.707 9(c)(d) & 40.33—Review by MRO of Urine Drug Testing Results/Employee Notification.
—Positive Drug Test Result | 450 MROs | 980 reports | 2 hours | 1,960 | 196,000
—Copies of Positive Test Results to Employees | 450 railroads | 980 tests | 15 minutes | 245 | 3,675
219.709—Retests—Written Request by Employee | 450 railroads | 10 letters | 30 minutes | 5 | 175
219.711(c) & 40.25(f)(22)(ii)—Employee Consent | 100,000 employees | 60 letters | 5 minutes | 5 | 175
219.801—Reporting Alcohol/Drug Misuse Prevention Program Results in a Management Info. System.
—Alcohol/Drug Testing Management Info. System Data Collection Form | 53 railroads | 25 forms | 4 hours | 100 | 3,500
—Easy Data Collection Form—No Alcohol/Drug Misuse | 53 railroads | 28 forms | 2 hours | 56 | 1,960
219.901/903—Retention of Breath Alcohol Testing Records; Retention of Urine Drug Testing | 450 railroads | 100,500 records | 5 minutes | 8,375 | 125,625
—Summary Report of Breath Alcohol/Drug Test | 450 railroads | 200 reports | 2 hours | 400 | 6,000

Respondent Universe: 450 railroads.

Frequency of Submission: On occasion.

Total Responses: 135,603.

Estimated Total Annual Burden: 34,378 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on November 29, 2006.
D.J. Stadtler,
Director, Office of Budget, Federal Railroad Administration.

[FR Doc. E6-20501 Filed 12-4-06; 8:45 am]

BILLING CODE 4910-06-P